NUCLEAR REGULATORY COMMISSION

Nuclear Management Company, LLC; Palisades Nuclear Plant; Notice of Availability of the Draft Supplement 27 to the Generic Environmental Impact Statement and Public Meeting for the License Renewal of Palisades Nuclear Plant

Notice is hereby given that the U.S. Nuclear Regulatory Commission (NRC or the Commission) has published a draft plant-specific supplement to the “Generic Environmental Impact Statement (GEIS), NUREG-1437,” regarding the renewal of operating license DPR-20 for the Palisades Nuclear Plant (PNP) for an additional 20 years of operation. Palisades is located on the eastern shore of Lake Michigan in Covert Township on the western side of Van Buren County, Michigan, approximately 4.5 miles south of the city limits of South Haven, Michigan. Possible alternatives to the proposed action (license renewal) include no action and reasonable alternative energy sources.

The draft Supplement 27 to the GEIS is available for public inspection in the NRC Public Document Room (PDR) located at One White Flint North, 11555 Rockville Pike, Rockville, Maryland 20852, or from the Publicly Available Records (PARS) component of NRC's Agencywide Documents Access and Management System (ADAMS). ADAMS is accessible from the NRC's Web site at http://www.nrc.gov/reading-rm/adams.html. The ADAMS accession number for draft Supplement 27 to the GEIS is ML060400430. Persons who do not have access to ADAMS, or who encounter problems in accessing the documents located in ADAMS, should contact the PDR reference staff at 1-800-397-4209, 301-415-4737, or by e-mail to pdr@nrc.gov. In addition, the South Haven Memorial Library, 314 Broadway Street, South Haven, MI has agreed to make the draft supplement to the GEIS available for public inspection.

Any interested party may submit comments on the draft supplement to the GEIS for consideration by the NRC staff. To be certain of consideration, comments on the draft supplement to the GEIS and the proposed action must be received by May 18, 2006. Comments received after the due date will be considered if it is practical to do so, but the NRC staff is able to assure consideration only for comments received on or before this date. Written comments on the draft supplement to the GEIS should be sent to: Chief, Rules and Directives Branch, Division of Administrative Services, Office of Administration, Mailstop T-6D59, U.S. Nuclear Regulatory Commission, Washington, DC 20555-0001.

Comments may be hand-delivered to the NRC at 11545 Rockville Pike, Room T-6D59, Rockville, Maryland, between 7:30 a.m. and 4:15 p.m. on Federal workdays. Electronic comments may be submitted to the NRC by e-mail at PalisadesEIS@nrc.gov. All comments received by the Commission, including those made by Federal, State, local agencies, Native American Tribes, or other interested persons, will be made available electronically at the Commission's PDR in Rockville, Maryland, and from the PARS component of ADAMS.

The NRC staff will hold a public meeting to present an overview of the draft plant-specific supplement to the GEIS and to accept public comments on the document. The public meeting will be held on April 5, 2006, at the Lake Michigan College, 125 Veterans Boulevard, South Haven, Michigan. There will be two sessions to accommodate interested parties. The first session will commence at 1:30 p.m. and will continue until 4:30 p.m. The second session will commence at 7 p.m. and will continue until 10 p.m. Both meetings will be transcribed and will include: (1) A presentation of the contents of the draft plant-specific supplement to the GEIS, and (2) the opportunity for interested government agencies, organizations, and individuals to provide comments on the draft report. Additionally, the NRC staff will host informal discussions one hour prior to the start of each session at the same location. No comments on the draft supplement to the GEIS will be accepted during the informal discussions. To be considered, comments must be provided either at the transcribed public meeting or in writing, as discussed below. Persons may pre-register to attend or present oral comments at the meeting by contacting Mr. Bo M. Pham, by telephone at 1-800-368-5642, extension 8450, or by e-mail at PalisadesEIS@nrc.gov no later than March 28, 2006. Members of the public may also register to provide oral comments within 15 minutes of the start of each session. Individual, oral comments may be limited by the time available, depending on the number of persons who register. If special equipment or accommodations are needed to attend or present information at the public meeting, the need should be brought to Mr. Pham's attention no later than March 28, 2006, to provide the NRC staff adequate notice to determine whether the request can be accommodated.

FOR FURTHER INFORMATION, CONTACT: Mr. Bo M. Pham, Environmental Branch B, Division of License Renewal, Office of Nuclear Reactor Regulation, U.S. Nuclear Regulatory Commission, Washington, DC 20555-0001. Mr. Pham may be contacted at the aforementioned telephone number or e-mail address.

Dated at Rockville, Maryland, this 14th day of February, 2006.
For the Nuclear Regulatory Commission.
Frank P. Gillespie,
Director, Division of License Renewal, Office of Nuclear Reactor Regulation.

[FR Doc. E6-2589 Filed 2-22-06; 8:45 am]

BILLING CODE 7590-01-P